DEPARTMENT OF ENERGY

Federal Energy Regulatory Commission

Combined Notice of Filings #1

December 21, 2006.

Take notice that the Commission received the following exempt wholesale generator filings:

Docket Numbers: EG07-22-000.

Applicants: Dogwood Energy LLC.

Description: Dogwood Energy LLC submits a Notice of Self-Certification of Exempt Wholesale Generator Status.

Filed Date: 12/18/2006.

Accession Number: 20061220-0156.

Comment Date: 5 p.m. Eastern Time on Monday, January 08, 2007.

Take notice that the Commission received the following electric rate filings:

Docket Numbers: ER02-405-006; EL02-107-003.

Applicants: Entergy Services Inc.

Description: Entergy Arkansas, Inc acting as agent for Entergy Arkansas, Inc. et al submits a compliance filing, pursuant to FERC's 11/17/06 Order.

Filed Date: 12/18/2006.

Accession Number: 20061220-0155.

Comment Date: 5 p.m. Eastern Time on Monday, January 08, 2007.

Docket Numbers: ER04-230-028; ER01-3155-018; ER01-1385-027; EL01-45-026.

Applicants: New York Independent System Operator, Inc.

Description: New York Independent System Operator, Inc. submits its ninth Quarterly Report regarding its efforts to efficiently utilize combined cycle units in the NYISO markets.

Filed Date: 12/15/2006.

Accession Number: 20061215-5019.

Comment Date: 5 p.m. Eastern Time on Friday, January 05, 2007.

Docket Numbers: ER06-278-005.

Applicants: Nevada Hydro Company, Inc.

Description: Nevada Hydro Company, Inc. submits an amendment to its Application, pursuant to the Commission's Order issued 11/17/06.

Filed Date: 12/18/2006.

Accession Number: 20061218-5046.

Comment Date: 5 p.m. Eastern Time on Monday, January 08, 2007.

Docket Numbers: ER06-1094-011.

Applicants: New York Independent System Operator, Inc.

Description: New York Independent System Operator, Inc submits a compliance filing to revise its OATT, pursuant to the Commission's 11/16/06 order.

Filed Date: 12/18/2006.

Accession Number: 20061220-0157.

Comment Date: 5 p.m. Eastern Time on Monday, January 08, 2007.

Docket Numbers: ER06-1514-001.

Applicants: Rochester Gas and Electric Corporation.

Description: Rochester Gas and Electric Corp submits a Third Revised Service Agreement 329 in compliance with FERC's 11/16/06 Order.

Filed Date: 12/15/2006.

Accession Number: 20061220-0199.

Comment Date: 5 p.m. Eastern Time on Friday, January 05, 2007.

Docket Numbers: ER07-64-002.

Applicants: ALLETE, Inc.

Description: ALLETE, Inc et al submits a letter to inform the Commission the CMEC Distribution Tariff should be designated as Minnesota Power, Inc Rate Schedule FERC 176.

Filed Date: 12/18/2006.

Accession Number: 20061220-0158.

Comment Date: 5 p.m. Eastern Time on Monday, January 08, 2007.

Docket Numbers: ER07-147-001.

Applicants: San Diego Gas & Electric Company.

Description: San Diego Gas and Electric Co submits a revised Service Agreement 14 to FERC Electric Tariff, Second Revised Volume 11.

Filed Date: 12/19/2006.

Accession Number: 20061220-0160.

Comment Date: 5 p.m. Eastern Time on Tuesday, January 9, 2007.

Docket Numbers: ER07-148-001.

Applicants: San Diego Gas & Electric Company.

Description: San Diego Gas and Electric Co submits the revised Service Agreement 18 to FERC Electric Tariff, Second Revised Volume 11.

Filed Date: 12/19/2006.

Accession Number: 20061220-0159.

Comment Date: 5 p.m. Eastern Time on Tuesday, January 09, 2007.

Docket Numbers: ER07-321-000; ER05-212-002.

Applicants: Monongahela Power Company.

Description: Monongahela Power Company submits two agreements, to be made effective 1/1/07 pursuant to the Commission's 10/21/06 order.

Filed Date: 12/08/2006.

Accession Number: 20061218-0146.

Comment Date: 5 p.m. Eastern Time on Friday, December 29, 2006.

Docket Numbers: ER07-329-000.

Applicants: Southern California Edison Company.

Description: Southern California Edison Company submits a Letter Agreement with PPM Energy Inc.

Filed Date: 12/18/2006.

Accession Number: 20061219-0061.

Comment Date: 5 p.m. Eastern Time on Monday, January 08, 2007.

Docket Numbers: ER07-330-000.

Applicants: Entergy Services Inc.

Description: Entergy Services Inc. on behalf of Entergy Mississippi, Inc submits an Agreement for the Lease of Silver Creek Substation.

Filed Date: 12/18/2006.

Accession Number: 20061219-0060.

Comment Date: 5 p.m. Eastern Time on Monday, January 08, 2007.

Docket Numbers: ER07-331-000.

Applicants: TransCanada Energy Ltd.

Description: TransCanada Energy Marketing Ltd submits an application for acceptance of market-base rate authority, waivers and blanket authority.

Filed Date: 12/18/2006.

Accession Number: 20061220-0125.

Comment Date: 5 p.m. Eastern Time on Monday, January 08, 2007.

Docket Numbers: ER07-332-000.

Applicants: PJM Interconnection, L.L.C.

Description: PJM Interconnection, LLC submits an executed Wholesale Market Participation Agreement with Schrack Farms Partnership and PPL Electric Utilities Corporation.

Filed Date: 12/18/2006.

Accession Number: 20061219-0059.

Comment Date: 5 p.m. Eastern Time on Monday, January 08, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-22349 Filed 12-28-06; 8:45 am]

BILLING CODE 6717-01-P